DEPARTMENT OF COMMERCE

National Institute of Standards and Technology

[Docket No.: 110620345-1331-02]

Request for Information on How To Structure Proposed New Program: Advanced Manufacturing Technology Consortia (AMTech)

AGENCY: National Institute of Standards and Technology (NIST), Department of Commerce.

ACTION: Request for information.

SUMMARY: The National Institute of Standards and Technology (NIST) invites interested parties to provide input on how to best structure a new public-private partnership program, the Advanced Manufacturing Technology Consortia (AMTech) program, proposed in the NIST fiscal year (FY) 2012 budget (see http://www.osec.doc.gov/bmi/budget/12CJ/2012_NIST_&_NTIS_Cong_Budget.pdf pp. NIST-250 to NIST-254) for a copy of the AMTech budget justification). As envisioned, the AMTech program will provide Federal financial assistance to leverage existing or newly created industry-led consortia to develop precompetitive enabling manufacturing technologies. These consortia would develop roadmaps of critical long-term industrial manufacturing research needs, and issue subawards to fund research by universities, government laboratories, and U.S. businesses. This initiative will support research and development (R&D) in advanced manufacturing, with the goal of strengthening long-term U.S. leadership in the development of critical technologies that lead to sustainable economic growth and job creation.

DATES: Comments are due on or before 11:59 p.m. Eastern Time on September 20, 2011.

ADDRESSES: Comments will be accepted by e-mail only. Comments must be sent to AMTechRFC@nist.gov with the subject line “AMTech Comments.”

FOR FURTHER INFORMATION CONTACT: Barbara Lambis, 301-975-4447, barbara.lambis@nist.gov, or Michael D. Walsh, 301-975-5545, michael.walsh@nist.gov.

SUPPLEMENTARY INFORMATION:

U.S. R&D intensity is lagging that of other nations and the composition of industrial R&D has shifted toward short-term research. These trends leave industry's long-term needs unmet and ultimately undermine our Nation's competitiveness.

As part of the Administration's effort to address this problem, the AMTech program aims to support early stage technology development by incentivizing the formation of and providing resources to industry-led consortia that will support precompetitive and enabling technology development, and create the infrastructure necessary for more efficient transfer of technology.

By convening key players across the entire innovation lifecycle, AMTech consortia will work toward eliminating critical barriers to innovation, increasing the efficiency of domestic innovation efforts and collapsing the time scale to deliver new products and services based on scientific and technological advances. This strategy has the potential to drive economic growth, enhance competitiveness and spur the creation of jobs in high-value sectors of the U.S. economy.

The establishment of industry-led AMTech consortia is expected to create an R&D infrastructure for industry-government partnerships that span the innovation life cycle—from discovery to invention to commercialization. The R&D-efficiency dimensions of these consortia will help accelerate the transition of knowledge and technology among all of the partners and thereby shorten critical R&D-cycle times. Each consortium will define and prioritize the precompetitive R&D gaps and needs that are most likely to accelerate the development and diffusion of new platform technologies with commercialization potential to industry. Where possible, consortia will utilize existing R&D roadmaps to guide the prioritization of R&D efforts. Where well-defined technology roadmaps are absent, it will be an initial mission of AMTech consortia to facilitate, coordinate, and develop appropriate mechanisms for strategic planning based on the input of the private sector and academia. It is expected that the development of well-defined and articulated industry-led research plans and priorities will provide academia and government partners with valuable insights into a research agenda most likely to achieve high rates of technological innovation.

The goals of AMTech include:

• Promoting collective efforts that enable the development of key technology platforms and technical infrastructures;

• Improving the management of research portfolios in response to industry long-run technology development needs;

• Providing an environment for maximizing the leverage of Federal investment through cost-sharing;

• Increasing industrial R&D investment in enabling technology platforms and infrastructure;

• Collapsing the time scale of technological innovation;

• Fostering a robust U.S. innovation system through broad participation by industry, the Federal government, universities, and state, local and tribal governments; and

• Expanding the domestic value-added from new technologies by encouraging supply-chain integration, thereby encouraging domestic investment in multiple industries that support these technologies.

AMTech expects to achieve these goals through:

1. Coordination and advance planning, by:

• Partnering with industry, academia, and government to develop a shared vision of an industry sector's research needs via a technology roadmap;

• Identifying shared technology challenges that are solved with precompetitive technologies; and

• Forming of industry-led consortia.

2. Research and knowledge transfer, by:

• Promoting technology and knowledge transfer by connecting research to industry needs as defined by the consortia;

• Funding precompetitive research directed at meeting industry needs for new technology platforms, derived from consortia roadmaps; and

• Using consortia mechanisms (e.g., cross-company (horizontal) interactions) to facilitate transfer of precompetitive technology platforms.

3. Transition new technology to commercial products, by:

• Providing a framework (e.g., an industry cluster model) that facilitates regional government and venture capital support, enabling a clear path to commercialization for the entire supply chain;

• Developing regional cluster synergies that encourage supply-chain formation and effective integration; and

• Enabling commercial technologies by removing production barriers identified by the consortia.

Request for Information: The objective of this request for information is to assist NIST in the development of the new AMTech program should NIST receive FY 2012 appropriated funds for this purpose. In this connection, the questions below are intended to assist in the formulation of comments, and should not be construed as a limitation on the number of comments that interested persons may submit or as a limitation on the issues that may be addressed in such comments. Comments containing references, studies, research, and other empirical data that are not widely published should include copies of the referenced materials. All comments will be made publicly available. NIST is specifically interested in receiving input pertaining to one or more of the following questions:

1. Should AMTech consortia focus on developments within a single existing or prospective industry, or should its focus be on broader system developments that must be supplied by multiple industries?

2. Who should be eligible to participate as a member of an AMTech consortium? For example, U.S. companies. i.e., large, medium, and/or small; institutions of higher education; Federal agencies; state, local, and tribal governments; and non-profit organizations?

3. Should AMTech place restrictions on or limit consortium membership?

4. Who should be eligible to receive research funding from an AMTech consortium? For example, U.S. companies i.e., large, medium, and/or small; institutions of higher education; Federal agencies; state, local, and tribal governments; and non-profit organizations?

5. What criteria should be used in evaluating proposals for AMTech funding?

6. What types of activities are suitable for consortia funding?

7. Should conditions be placed on research awards to ensure funded activities are directed toward assisting manufacturing in the U.S.?

8. What are ways to facilitate the involvement of small businesses in AMTech consortia?

9. What are best practices for facilitating the widest dissemination and adoption of knowledge and technology through consortia?

10. While it is expected that the research efforts of AMTech consortia (including participants from the Federal, academic, and private industry sectors) will take place largely at the pre-competitive stage in the development of technologies, the generation of intellectual property is possible, and even likely. What types of intellectual property arrangements would promote active engagement of industry in consortia that include the funding of university-based research and ensure that consortia efforts are realized by U.S. manufacturers?

11. Would planning grants provide sufficient incentive for industry to develop roadmaps and initiate the formation of consortia? If not, what other incentives should be considered?

12. Should each member of an AMTech consortium be required to provide cost sharing? If so, what percentage of cost sharing should be provided?

13. What criteria should be used in evaluating research proposals submitted to an AMTech consortium?

14. What management models are best suited for industry-led consortia?

15. Should the evaluation criteria include the assessment of leadership and managerial skills?

16. Should limitations be placed on the duration of consortia?

17. How should an AMTech consortium's performance and impact be evaluated? What are appropriate measures of success?

18. What are the problems of measuring real-time performance of individual research awards issued by an industry-led consortium? What are appropriate measures of success?

19. How should the NIST AMTech program be evaluated?

20. What are lessons learned from other successful and unsuccessful industry-led consortia?

21. How can AMTech do the most with available resources? Are there approaches that will best leverage the Federal investment?

22. How should AMTech interact with other Federal programs or agencies?

23. What role can AMTech play in developing, leading, or leveraging consortia involving other Federal agencies?

Dated: July 19, 2011.
Patrick Gallagher,
Under Secretary of Commerce for Standards and Technology and Director.

[FR Doc. 2011-18580 Filed 7-21-11; 8:45 am]

BILLING CODE 3510-13-P